DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Legal Collection, OMB Control Number 1910-0800. The proposed collection will enable DOE to continue to maintain DOE control and oversight of DOE contractor's invention reporting and related matters.

DATES: Comments regarding this collection must be received on or before September 29, 2011. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs, Office of Management and Budget, New Executive Office Building, Room 10102, 735 17th Street, NW., Washington, DC 20503, and to John Lucas, U.S. Department of Energy, Washington, DC 20585; (202) 586-2802 (telephone); (202) 586-2805 (fax); john.t.lucas@hq.doe.gov.

FOR FURTHER INFORMATION CONTACT: John T. Lucas, U.S. Department of Energy, Washington, DC, 20585; (202) 586-2802 (telephone); (202) 586-2805 (fax); john.t.lucas@hq.doe.gov.

SUPPLEMENTARY INFORMATION: This information collection request contains: (1) OMB No. 1910-0800; (2) Information Collection Request Title: Legal Collection; (3) Type of Request: Renewal; (4) Purpose: To continue to maintain DOE control and oversight of DOE and its contractor's invention reporting and related matters. Likely respondents are DOE contractors; (5) Annual Estimated Number of Respondents: 1817; (6) Annual Estimated Number of Total Responses: 1817; (7) Annual Estimated Number of Burden Hours: 15,127; (8) Annual Estimated Reporting and Recordkeeping Cost Burden: $1,034,525.

Statutory Authority: 42 U.S.C. 5908 (a), (b) and (c); 10 CFR part 781; 10 CFR 784.

Issued in Washington, DC, on August 24, 2011.
Robert J. Marchick,
Acting Assistant General Counsel for Technology Transfer and Intellectual Property, U.S. Department of Energy, Washington, DC 20585.

[FR Doc. 2011-22118 Filed 8-29-11; 8:45 am]

BILLING CODE 6450-01-P